DEPARTMENT OF HOMELAND SECURITY

Coast Guard

33 CFR Part 117

[USCG-2013-1055]

Drawbridge Operation Regulations; Long Island, New York Inland Waterway From East Rockaway Inlet to Shinnecock Canal, Hempstead, NY

AGENCY: Coast Guard, DHS.

ACTION: Notice of temporary deviation from regulations.

SUMMARY: The Commander, First Coast Guard District, has issued a temporary deviation from the regulation governing the operation of the Wantagh State Parkway Bridge across the Sloop Channel, mile 15.4, at Jones Beach, New York. The deviation is necessary to facilitate public safety during the annual Jones Beach Air Show over Memorial Day weekend. This deviation allows the bridge to remain in the closed position for an hour and a half on Saturday and Sunday afternoon.

DATES: This deviation is effective from 2:30 p.m. on May 24, 2014 through 4 p.m. on May 25, 2014.

ADDRESSES: The docket for this deviation, [USCG-2013-1055] is available at http://www.regulations.gov. Type the docket number in the “SEARCH” box and click “SEARCH.” Click on Open Docket Folder on the line associated with this deviation. You may also visit the Docket Management Facility in Room W12-140, on the ground floor of the Department of Transportation West Building, 1200 New Jersey Avenue SE., Washington, DC 20590, between 9 a.m. and 5 p.m., Monday through Friday, except Federal holidays.

FOR FURTHER INFORMATION CONTACT: If you have questions on this temporary deviation, call or email Ms. Judy Leung-Yee, Project Officer, First Coast Guard District, judy.k.leung-yee@uscg.mil, or (212) 668-7165. If you have questions on viewing the docket, call Cheryl Collins, Program Manager, Docket Operations, telephone 202-366-9826.

SUPPLEMENTARY INFORMATION: The Wantagh State Parkway Bridge has a vertical clearance in the closed position of 16 feet at mean high water and 20 feet at mean low water. The existing drawbridge operation regulations are listed at 33 CFR 117.5.

The waterway has seasonal recreational vessels and fishing vessels of various sizes. We contacted the New York Marine Trades Association and no objections were received.

The New York Department of Transportation requested a temporary deviation to facilitate public safety by allowing the anticipated large volume of vehicular traffic to safely evacuate the area following the annual Jones Beach Air Show on Saturday, May 24, 2014 and Sunday, May 25, 2014, over Memorial Day weekend.

Under this temporary deviation the Wantagh State Parkway Bridge at mile 15.4, across Sloop Channel, may remain in the closed position between 2:30 p.m. and 4 p.m. on Saturday, May 24, 2014 and Sunday, May 25, 2014.

Vessels that can pass under the bridge during the closed periods without a bridge opening may do so at all times. There are no alternate routes for vessel traffic.

In accordance with 33 CFR 117.35(e), the bridge must return to its regular operating schedule immediately at the end of the designated time period. This deviation from the operating regulations is authorized under 33 CFR 117.35.

Dated: February 10, 2014.
C.J. Bisignano,
Supervisory Bridge Management Specialist, First Coast Guard District.

[FR Doc. 2014-04357 Filed 2-27-14; 8:45 am]

BILLING CODE 9110-04-P